DEPARTMENT OF TRANSPORTATION

Maritime Administration

[Docket No. MARAD-2019-0047]

Request for Comments on the Renewal of a Previously Approved Information Collection: Effective U.S. Control (EUSC)/Parent Company

AGENCY: Maritime Administration, DOT.

ACTION: Notice and request for comments.

SUMMARY: The Maritime Administration (MARAD) invites public comments on our intention to request the Office of Management and Budget (OMB) approval to renew an information collection. The information to be collected will be used to aid in identifying oceangoing vessels that may be both useful and available to the Department of Defense for deploying U.S. military equipment (such as tanks and other tracked and wheeled vehicles) and the full range of supplies (including petroleum products and fuel) necessary to sustain a force in a foreign theater of operations. We are required to publish this notice in the Federal Register by the Paperwork Reduction Act of 1995.

DATES: Comments must be submitted on or before May 20, 2019.

ADDRESSES: You may submit comments [identified by Docket No. MARAD-2019-0047] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Russ Krause, 202-366-1031, Division of Sealift Operations and Emergency Response, U.S. Department of Transportation, 1200 New Jersey Avenue SE, Washington, DC, 20590.

SUPPLEMENTARY INFORMATION:

Title: Effective U.S. Control (EUSC)/Parent Company.

OMB Control Number: 2133-0511.

Type of Request: Renewal of a Previously Approved Information Collection.

Abstract: The Effective U.S. Control (EUSC)/Parent Company collection consists of an inventory of foreign-registered vessels owned by U.S. citizens. Specially, the collection consists of responses from vessel owners verifying or correcting vessel ownership data and characteristics found in commercial publications. The information obtained could be vital in a national or international emergency and is essential to the logistical support planning operations conducted by Maritime Administration officials.

Respondents: U.S. citizens who own foreign-registered vessels.

Affected Public: Business or other for-profit.

Estimated Number of Respondents: 60.

Estimated Number of Responses: 60.

Estimated Hours per Response: .5.

Annual Estimated Total Annual Burden Hours: 30.

Frequency of Response: Annually.

(Authority: The Paperwork Reduction Act of 1995; 44 U.S.C. chapter 35, as amended; and 49 CFR 1.93)

* * * * *

Dated: March 15, 2019.
By Order of the Maritime Administrator.
T. Mitchell Hudson, Jr.,
Secretary, Maritime Administration.

[FR Doc. 2019-05315 Filed 3-20-19; 8:45 am]

BILLING CODE 4910-81-P